DEPARTMENT OF AGRICULTURE

Agricultural Marketing Service

[Doc. # TM-03-09]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: Wednesday, October 22, 2003, 1 p.m. to 5:30 p.m., Thursday, October 23, 2003, 8 a.m. to 5:30 p.m., and Friday, October 24, 2003, 8 a.m. to 5:30 p.m. Requests from individuals and organizations wishing to make an oral presentation at the meeting are due by the close of business on October 7, 2003. A closed session will be held on Wednesday, October 22, 2003, 8:30 a.m. to 12 p.m., at which administrative matters will be handled.

ADDRESSES: The meeting will take place at the Radisson Barceló Hotel Washington, The Phillips Ballroom, 2121 P Street, NW., Washington, DC. Requests for copies of the NOSB meeting agenda, requests to make an oral presentation at the meeting, or written comments may be sent to Ms. Katherine Benham at USDA-AMS-TMD-NOP, 1400 Independence Avenue, SW., Room 4008-So., Ag Stop 0268, Washington, DC 20250-0200. Requests to make an oral presentation at the meeting may also be sent electronically to Ms. Katherine Benham at katherine.benham@usda.gov.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on other aspects of the implementation of the OFPA. The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 50 addenda to its recommendations and reviewed more than 256 substances for inclusion on the National List of Allowed and Prohibited Substances. The last meeting of the NOSB was held on May 13-14, 2003, in Austin, Texas.

The Department of Agriculture (USDA) published its final National Organic Program regulation in the Federal Register on December 21, 2000 (65 FR 80548). The rule became effective April 21, 2001.

The principal purposes of the meeting are to provide an opportunity for the NOSB to hear a presentation from FDA on their substance approval process for livestock; to hear recommendations from contractors, past and present, for enhancing petitions for the addition or removal of substances from the National List and for enhancing the statement of work between contractors and USDA; receive public comment regarding what constitutes compatibility/consistency with a system of sustainable agriculture/organic production and handling relative to substance review and evaluations; to develop a statement for public distribution on what constitutes compatibility/consistency with a system of sustainable agriculture/organic production and handling relative to substance review and evaluations; and finally to document and clarify, for the NOP, substance recommendations from the May 2003 NOSB meeting in Austin, Texas.

For further information, see http://www.ams.usda.gov/nop. Copies of the NOSB meeting agenda can be requested from Ms. Katherine Benham by telephone at (202) 205-7806; or by accessing the NOP Web site at http://www.ams.usda.gov/nop.

The meeting is open to the public. The NOSB has scheduled time for public input on Thursday, October 23, 2003, 8 a.m. to 12 p.m., for individuals to speak on the issue of what constitutes compatibility/consistency with a system of sustainable agriculture/organic production and handling. Individuals and organizations wishing to make an oral presentation at the meeting may forward their request by facsimile to Ms. Katherine Benham at (202) 205-7808. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: October 1, 2003.
A.J. Yates,
Administrator, Agricultural Marketing Service.

[FR Doc. 03-25311 Filed 10-6-03; 8:45 am]

BILLING CODE 3410-02-P